DEPARTMENT OF HOMELAND SECURITY

8 CFR Part 217

Greece Electronic System for Travel Authorization Validity Period

AGENCY: Office of the Secretary; DHS.

ACTION: Announcement of ESTA validity period.

SUMMARY: In 2016, DHS reduced Greece's Electronic System for Travel Authorization (ESTA) travel authorization validity period for travel by nationals of Greece under the Visa Waiver Program (VWP) from two years to one year. The reduction was based on a 2015 VWP assessment of Greece, which had identified a number of shortcomings in satisfying VWP requirements. In November 2018, DHS re-evaluated Greece's progress to meet the requirements and determined that Greece has satisfied the requirements for normalizing Greece's ESTA validity period to two years. This document announces that DHS therefore is increasing Greece's ESTA validity period to two years.

DATES: This announcement is effective on April 8, 2019.

FOR FURTHER INFORMATION CONTACT: Tamara Molina, Office of Strategy, Policy, and Plans, Department of Homeland Security, Visa Waiver Program Office, 3801 Nebraska Avenue NW, Washington, DC 20016, Telephone (202) 282-8044.

SUPPLEMENTARY INFORMATION:

I. Background

A. The Visa Waiver Program

Pursuant to section 217 of the Immigration and Nationality Act (INA), 8 U.S.C. 1187, the Secretary of Homeland Security (the Secretary), in consultation with the Secretary of State, may designate certain countries for participation in the Visa Waiver Program (VWP) if certain requirements are met. Those requirements include, without limitation: (1) A rate of nonimmigrant visitor visa refusals for nationals of the country below the statutorily-established threshold; (2) certification by the government seeking designation for VWP participation that it issues machine-readable passports that comply with internationally accepted standards; (3) a determination by the Secretary, in consultation with the Secretary of State, that the country's designation would not negatively affect U.S. law enforcement and security interests; (4) an agreement to report, or make available through other designated means authorized by the Secretary, information about the theft or loss of passports to the U.S. government; (5) the country's government's acceptance for repatriation of any citizen, former citizen, or national not later than three weeks after the issuance of a final order of removal; and (6) an agreement with the United States to share information regarding whether citizens or nationals of the country travelling to the United States represent a threat to the security or welfare of the United States or its citizens. See INA section 1187(c), 8 U.S.C. 1187(c).

The INA also sets forth requirements for countries' continued VWP eligibility and, where appropriate, probation or termination of program countries. See INA section 1187(c), (d) & (f); 8 U.S.C. 1187(c), (d) & (f).

Citizens and eligible nationals of VWP countries may apply for admission to the United States at U.S. ports of entry as nonimmigrant visitors for business or pleasure for a period of ninety days or less without first obtaining a nonimmigrant visa, provided they are otherwise eligible for admission under applicable statutory and regulatory requirements. To travel to the United States under the VWP, an alien must be from a participating country and must, without limitation:

(1) Be seeking entry as a visitor for business or pleasure for ninety days or less;

(2) be a national of a VWP country;

(3) present a valid electronic passport and a machine-readable passport issued by a designated VWP participant country to the air or vessel carrier before departure; ¹

¹ For countries designated as VWP countries prior to November 17, 2008, passports issued before October 26, 2006, need not contain the electronic chip that includes the biographic and biometric information of the passport holder provided the passports comply with International Civil Aviation Organization machine readable standards. See 8 U.S.C. 1732(c)(2).

(4) execute the required immigration forms;

(5) if arriving by air or sea, arrive on an authorized carrier;

(6) not represent a threat to the welfare, health, safety or security of the United States;

(7) never have failed to comply with the conditions of any previous admission under the VWP;

(8) possess a round-trip ticket;

(9) waive the right to review or appeal a decision regarding admissibility at the port of entry or to contest, other than on the basis of an application for asylum, any action for removal; and

(10) obtain an approved travel authorization via Electronic System for Travel Authorization (ESTA).²

² See 73 FR 67354 (Nov. 13, 2008) (ESTA notice); 73 FR 32440 (June 9, 2008) (interim final rule implementing ESTA).

See INA section 217(a)-(b); 8 U.S.C. 1187(a)-(b). See also 8 CFR part 217.

Greece was designated for participation in the Visa Waiver Program on March 31, 2010. See 75 FR 15991.

B. ESTA Validity Period

Typically, under DHS regulations, a travel authorization issued under ESTA is valid for a period of two years from the date of issuance. 8 CFR 217.5(d)(1). But the Secretary of Homeland Security, in consultation with the Secretary of State, may increase or decrease ESTA travel authorization validity period otherwise authorized by subparagraph (1) for a designated VWP country. See 8 CFR 217.5(d)(3). DHS typically publishes notice of any changes to ESTA travel authorization validity periods in the Federal Register.

C. Normalization of Greece's ESTA Validity Period

DHS conducts a statutorily-required review of each VWP country at least once every two years to evaluate the effects that continuing the country's designation in the program will have on U.S. national security, law enforcement, and immigration enforcement interests. See INA section 217(c)(5)(A), 8 U.S.C. 1187(c)(5)(A). In January 2015, DHS placed Greece on provisional VWP status (pursuant to which Greece is subject to an annual assessment, rather than an assessment every two years) due to concerns not meeting several VWP requirements. In 2016, DHS extended Greece's VWP designation on a provisional basis through March 31, 2017, to address concerns over migrant vetting, information-sharing gaps, and passport-issuance practices. Additionally, DHS reduced Greece's ESTA validity period from two years to one year and committed Greece to implement five lines of effort specified in a Joint Statement in order to remove Greece from a provisional VWP status.

In 2017, DHS sent correspondence to Greece defining a set of actions that would justify ESTA normalization. Greece has made successful progress in all five lines of effort and has completed all of the elements required for ESTA normalization that had been communicated in 2017. Greece has enacted necessary legislation to authorize issuance and replacement of national identification cards (biometric chip), expanded systematic refugee vetting at all migrant processing centers, and enacted Passenger Name Recognition (PNR) legislation to implement the EU PNR Directive. For these reasons, DHS is publishing this document announcing that it is increasing Greece's ESTA validity period to two years.

Claire Grady,
Senior Official Performing the Duties of the Deputy Secretary, Department of Homeland Security.

[FR Doc. 2019-06750 Filed 4-5-19; 8:45 am]

BILLING CODE P